DEPARTMENT OF TRANSPORTATION

Federal Aviation Administration

14 CFR Part 71

[Docket No. FAA-2021-0912; Airspace Docket No. 21-ASO-6]

RIN 2120-AA66

Proposed Establishment and Amendment of Area Navigation (RNAV) Routes, Eastern United States

AGENCY: Federal Aviation Administration (FAA), DOT.

ACTION: Notice of proposed rulemaking (NPRM).

SUMMARY: This action proposes to modify six existing high altitude area navigation (RNAV) routes (Q-routes), and establish one new Q-route, in support of the FAA's VHF Omnidirectional Range (VOR) Minimum Operational Network (MON) Program. This proposal would improve the efficiency of the National Airspace System (NAS) by expanding the availability of RNAV routing and reducing the dependency on ground-based navigational systems.

DATES: Comments must be received on or before January 10, 2022.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-0912; Airspace Docket No. 21-ASO-6 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspectioninspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0912; Airspace Docket No. 21-ASO-6) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0912; Airspace Docket No. 21-ASO-6.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at https://www.regulations.gov. Recently published rulemaking documents can also accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to amend six existing Q-routes, and establish one new Q-route, in the eastern United States to support the VOR MON program.

The proposed Q-route amendments are as follows:

Q-19: Q-19 currently extends between the Nashville, TN, (BNA) VHF Omnidirectional Range/Tactical Air Navigation (VORTAC) navigation aid (NAVAID), and the Aberdeen, SD, (ABR) VOR/Distance Measuring Equipment (DME) NAVAID. Because the Nashville VORTAC is planned for decommissioning, this proposal would remove the Nashville VORTAC from Q-19 and replace it with the HITMN, TN, waypoint (WP). The HITMN WP would be located about 60 feet southeast of the Nashville VORTAC location. Additionally, the FAA proposes to extend Q-19 from the HITMN WP southeastward to the BULZI, FL, WP, (located east to the Tallahassee International Airport (TLH), FL). As amended, Q-19 would extend between BULZI, FL, and Aberdeen, SD.

Q-30: Q-30 currently extends between the Sidon, MS, (SQS) VORTAC and the Vulcan, AL, (VUZ) VORTAC. New WPs would replace the Sidon and Vulcan VORTACs. The IZAAC, MS, WP would replace the Sidon VORTAC, and the VLKNN, AL, WP, would replace the Vulcan, AL, (VUZ) VORTAC. IZAAC would be located 60 feet east of the Sidon position, and VLKNN would be located 49 feet east of the Vulcan position. In addition, Q-30 would be slightly realigned to the south of its current track to extend from the IZAAC WP to a new SKNRR, MS, WP (which would replace the Bigbee, MS, (IGB) VORTAC), then proceed to the VLKNN, AL, WP. The realignment of Q-30 would overlay the segment of jet route J-52 between the Sidon and Vulcan VORTACs. As amended, Q-30 would extend from IZAAC, MS, to SKNRR, MS, to VLKNN, AL.

Q-79: Q-79 currently extends between the MCLAW, FL, WP and the Atlanta, GA, (ATL) VORTAC. This action would amend Q-79 by replacing the Atlanta VORTAC with the THRSR, GA, WP, which is located 60 feet north of the Atlanta VORTAC position. The YUESS, GA, WP would be removed from the route and replaced by the ZPLEN, GA, WP. Q-79 would also be extended north from the THRSR WP to the Louisville, KY, (IIU) VORTAC. As amended, Q-79 would extend between the MCLAW, FL, WP, and the Louisville, KY, VORTAC.

Q-81: Q-81 currently extends between the LTUNSL, FL, WP, and the HONID, GA, WP. The only proposed change to this route would be a small move of the IPOKE, FL, WP, south of its current position. IPOKE is used in transitioning aircraft between Jacksonville and Atlanta Air Route Traffic Control Centers (ARTCC). This move would assist with air traffic flow and avoid excessive coordination between ARTCCs. The coordinates of IPOKE would change from lat. 30°51′48.89″N, long. 084°11′52.43″W, to lat. 30°50′38.05″N, long. 084°11′34.84″W. Additionally, in the Q-81 route description, the location of the FIPES and BITNY WPs are listed as “OG” instead of a state abbreviation. “OG” means that the WPs are located offshore over the Gulf of Mexico.

Q-89: Q-89 currently extends between the MANLE, FL, WP, and the Atlanta, GA, (ATL) VORTAC. The FAA proposes to remove the segment between the YANTI, GA, WP, and the Atlanta VORTAC. Instead, the route would extend from YANTI to a new HESPI, GA, WP, (located 30 nautical miles (NM) southeast of the Atlanta VORTAC). From that point Q-89 would extend northward to a new CULTO, GA, WP, (approximately 20 NM northeast of the Atlanta VORTAC), and then northward to the SMTTH, TN, WP, (located west of the Volunteer, TN, VORTAC). As proposed, Q-89 would extend between the MANLE, FL, WP, and the SMTTH, TN, WP.

Q-118: Q-118 currently extends between the Marion, IN, (MZZ) VOR/DME and the PEAKY, FL, WP. This action would remove the Marion VOR/DME and the Atlanta VORTAC from the route description and replace them with WPs. The Marion VOR/DME would be replaced by the BONNT, IN, WP (located 121 feet north of the Marion VOR/DME). The Atlanta VORTAC would be replaced by the THRSR, GA, WP, (located 60 feet north of the Atlanta VORTAC). As amended, Q-118 would extend between the BONNT, IN, WP, and the PEAKY, FL, WP.

The proposed new Q-route is as follows:

Q-184: Q-184 would extend between the Ranger, TX, (FUZ) VORTAC, and the ARNNY, AL, WP (approximately 30 NM west of the Montgomery, AL, (MGM) VORTAC). Q-184 would be an overlay of those portions of jet route J-4 between the Ranger VORTAC and the Meridian, MS, (MEI), VORTAC, at which point Q-184 would proceed east to the ZRNNY, AL, WP. In support of efforts to reduce the dependency on ground-based navigation, new WPs would be used in the Q-184 route description as follows: The MERDN, MS, WP, would replace the Meridian, MS, (MEI) VORTAC; the DOBIS, LA, WP, would replace the Belcher, LA, (EIC) VORTAC; and the SARKK, MS, WP, would replace the Magnolia, MS, (MHZ) VORTAC.

The proposed new and amended routes in this notice would expand the availability of high altitude RNAV routing along the eastern seaboard of the U.S. The project is designed to increase airspace capacity and reduce complexity in high volume areas through the use of optimized routes through congested airspace.

RNAV routes are published in paragraph 2006 of FAA Order JO 7400.11F dated August 10, 2021, and effective September 15, 2021, which is incorporated by reference in 14 CFR 71.1. The RNAV routes listed in this document would be subsequently published in FAA Order JO 7400.11.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2006 United States Area Navigation Routes.

* * * * *

Q-19 BULZI, FL to Aberdeen, SD (ABR) [Amended]
BULZI, FL | WP | (Lat. 30°22′24.93″N, long. 084°04′34.47″W)
WYATT, GA | Fix | (Lat. 31°19′22.44″N, long. 084°37′30.40″W)
GOONS, GA | Fix | (Lat. 31°52′01.47″N, long. 084°48′21.14″W)
LAYIN, AL | WP | (Lat. 33°35′38.39″N, long. 085°32′50.84″W)
TOJXE, AL | WP | (Lat. 34°39′40.18″N, long. 086°01′49.42″W)
HITMN, TN | WP | (Lat. 36°08′12.47″N, long. 086°41′05.25″W)
PLESS, IL | Fix | (Lat. 37°48′34.48″N, long. 088°57′47.48″W)
St Louis, MO (STL) | VORTAC | (Lat. 38°51′38.48″N, long. 090°28′56.52″W)
Des Moines, IA (DSM) | VORTAC | (Lat. 41°26′15.45″N, long. 093°38′54.81″W)
Sioux Falls, SD (FSD) | VORTAC | (Lat. 43°38′58.14″N, long. 096°46′52.02″W)
Aberdeen, SD (ABR) | VOR/DME | (Lat. 45°25′02.48″N, long. 098°22′07.39″W)
* * * * * * *
Q-30 IZAAC, MS to VLKNN, AL [Amended]
IZAAC, MS | WP | (Lat. 33°27′49.87″N, long. 090°16′37.75″W)
SKNRR, MS | WP | (Lat. 33°29′07.75″N, long. 088°30′49.63″W)
VLKNN, AL | WP | (Lat. 33°40′12.47″N, long. 086°53′58.83″W)
* * * * * * *
Q-79 MCLAW, FL to Louisville, KY (IIU) [Amended]
MCLAW, FL | WP | (Lat. 24°33′49.00″N, long. 081°01′00.00″W)
VAULT, FL | WP | (Lat. 24°45′54.75″N, long. 081°00′33.72″W)
FEMID, FL | WP | (Lat. 26°06′29.59″N, long. 081°27′23.07″W)
WULFF, FL | WP | (Lat. 27°04′03.14″N, long. 081°58′44.99″W)
MOLIE, FL | WP | (Lat. 28°01′55.53″N, long. 082°18′25.55″W)
DOFFY, FL | WP | (Lat. 29°15′22.73″N, long. 082°31′38.10″W)
EVANZ, FL | WP | (Lat. 29°54′12.11″N, long. 082°52′03.81″W)
IISLY, GA | WP | (Lat. 30°42′37.70″N, long. 083°17′57.72″W)
ZPLEN, GA | WP | (Lat. 31°41′28.42″N, long. 083°40′21.06″W)
THRSR, GA | WP | (Lat. 33°37′45.26″N, long. 084°26′06.36″W)
KAILL, GA | WP | (Lat. 34°01′47.21″N, long. 084°31′24.18″W)
WUDEE, GA | Fix | (Lat. 34°34′43.52″N, long. 084°39′58.83″W)
RESPE, TN | Fix | (Lat. 35°35′30.56″N, long. 084°55′12.31″W)
SWAPP, TN | Fix | (Lat. 36°36′49.78″N, long. 085°10′56.04″W)
Louisville, KY (IIU) | VORTAC | (Lat. 38°06′12.47″N, long. 085°34′38.77″W)
* * * * * * *
Q-81 TUNSL, FL to HONID, GA [Amended]
TUNSL, FL | WP | (Lat. 24°54′02.43″N, long. 081°31′02.80″W)
KARTR, FL | Fix | (Lat. 25°29′45.76″N, long. 081°30′46.24″W)
FIPES, OG | WP | (Lat. 25°41′30.15″N, long. 081°37′13.79″W)
THMPR, FL | WP | (Lat. 26°46′00.21″N, long. 082°20′23.99″W)
LEEHI, FL | WP | (Lat. 27°07′21.91″N, long. 082°34′54.57″W)
FARLU, FL | WP | (Lat. 27°45′32.56″N, long. 082°50′43.77″W)
MGNTY, FL | WP | (Lat. 28°01′32.99″N, long. 082°53′19.71″W)
ENDEW, FL | WP | (Lat. 28°18′01.73″N, long. 082°55′56.70″W)
BITNY, OG | WP | (Lat. 28°46′11.98″N, long. 083°07′53.01″W)
NICKI, FL | WP | (Lat. 29°15′20.19″N, long. 083°20′31.80″W)
SNAPY, FL | WP | (Lat. 29°48′51.17″N, long. 083°42′23.61″W)
BULZI, FL | WP | (Lat. 30°22′24.93″N, long. 084°04′34.47″W)
IPOKE, GA | WP | (Lat. 30°50′38.05″N, long. 084°11′34.84″W)
HONID, GA | WP | (Lat. 31°38′50.31″N, long. 084°23′42.60″W)
* * * * * * *
Q-89 MANLE, FL to SMTTH, TN [Amended]
MANLE, FL | WP | (Lat. 28°42′26.16″N, long. 080°24′23.71″W)
WAKUP, FL | WP | (Lat. 28°51′47.62″N, long. 080°40′26.97″W)
PRMUS, FL | WP | (Lat. 29°49′05.67″N, long. 081°07′20.74″W)
OVENP, FL | WP | (Lat. 30°08′04.41″N, long. 081°22′26.25″W)
SHRKS, FL | WP | (Lat. 30°37′23.23″N, long. 081°45′59.13″W)
YANTI, GA | WP | (Lat. 31°47′22.38″N, long. 082°51′32.65″W)
HESPI, GA | WP | (Lat. 33°14′21.16″N, long. 084°05′38.77″W)
CULTO, GA | WP | (Lat. 33°59′10.52″N, long. 084°17′39.60″W)
SMTTH, TN | WP | (Lat. 35°54′41.57″N, long. 084°00′19.74″W)
* * * * * * *
Q-118 BONNT, IN to PEAKY, FL [Amended]
BONNT, IN | WP | (Lat. 40°29′37.14″N, long. 085°40′45.75″W)
HEVAN, IN | WP | (Lat. 39°21′08.86″N, long. 085°07′46.70″W)
ROYYZ, IN | WP | (Lat. 38°56′28.93″N, long. 084°56′10.19″W)
VOSTK, KY | WP | (Lat. 38°28′15.86″N, long. 084°43′03.58″W)
HELUB, KY | WP | (Lat. 37°42′54.84″N, long. 084°44′28.31″W)
JEDER, KY | WP | (Lat. 37°19′30.54″N, long. 084°45′14.17″W)
GLAZR, TN | WP | (Lat. 36°25′20.78″N, long. 084°46′49.29″W)
KAILL, GA | WP | (Lat. 34°01′47.21″N, long. 084°31′24.18″W)
THRSR, GA | WP | (Lat. 33°37′45.26″N, long. 084°26′06.36″W)
JOHNN, GA | WP | (Lat. 31°31′22.94″N, long. 083°57′26.55″W)
JAMIZ, FL | WP | (Lat. 30°13′46.91″N, long. 083°19′27.78″W)
BRUTS, FL | WP | (Lat. 29°30′58.00″N, long. 082°58′57.00″W)
JINOS, FL | WP | (Lat. 28°28′46.00″N, long. 082°08′52.00″W)
KPASA, FL | WP | (Lat. 28°10′34.00″N, long. 081°54′27.00″W)
SHEEK, FL | WP | (Lat. 27°35′15.40″N, long. 081°46′27.82″W)
CHRRI, FL | WP | (Lat. 27°03′00.70″N, long. 081°39′14.81″W)
FEMID, FL | WP | (Lat. 26°06′29.59″N, long. 081°27′23.07″W)
PEAKY, FL | WP | (Lat. 24°35′23.72″N, long. 081°08′53.91″W)
* * * * * * *
Q-184 Ranger, TX (FUZ) to ARNNY, AL [New]
Ranger, TX (FUZ) | VORTAC | (Lat. 32°53′22.02″N, long. 097°10′45.93″W)
DOBIS, TX | WP | (Lat. 32°46′16.86″N, long. 093°48′35.05″W)
BERKE, LA | Fix | (Lat. 32°45′18.20″N, long. 093°35′50.03″W)
MIXIE, LA | Fix | (Lat. 32°43′19.40″N, long. 093°10′51.57″W)
STAGE, LA | Fix | (Lat. 32°42′42.76″N, long. 093°03′21.82″W)
KAMEN, LA | Fix | (Lat. 32°40′10.15″N, long. 092°33′07.47″W)
SARKK, MS | WP | (Lat. 32°26′02.24″N, long. 090°05′58.67″W)
MERDN, MS | WP | (Lat. 32°22′42.36″N, long. 088°48′14.66″W)
KWANE, MS | WP | (Lat. 32°22′00.47″N, long. 088°27′29.43″W)
ARNNY, AL | WP | (Lat. 32°20′40.60″N, long. 086°59′28.57″W)

* * * * *

Issued in Washington, DC, on November 17, 2021.
Michael R. Beckles,
Acting Manager, Rules and Regulations Group.

[FR Doc. 2021-25496 Filed 11-24-21; 8:45 am]

BILLING CODE 4910-13-P